DEPARTMENT OF COMMERCE

Bureau of Economic Analysis

Proposed Information Collection; Comment Request; Direct Investment Surveys: BE-11, Annual Survey of U.S. Direct Investment Abroad

AGENCY: Bureau of Economic Analysis, Department of Commerce.

ACTION: Notice.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before August 10, 2015.

ADDRESSES: Direct all written comments to Jennifer Jessup, Departmental Paperwork Clearance Officer, Department of Commerce, Room 6616, 14th and Constitution Avenue NW., Washington, DC 20230, or via email at jjessup@doc.gov.

FOR FURTHER INFORMATION CONTACT: Requests for additional information or copies of the information collection instrument and instructions should be directed to Patricia Abaroa, Chief, Direct Investment Division (BE-50), Bureau of Economic Analysis, U.S. Department of Commerce, Washington, DC 20230; phone: (202) 606-9591; or via email at patricia.abaroa@bea.gov.

SUPPLEMENTARY INFORMATION:

I. Abstract

The Annual Survey of U.S. Direct Investment Abroad (BE-11) obtains sample data on the financial structure and operations of U.S. parents and their foreign affiliates. The data are needed to provide reliable, useful, and timely measures of U.S. direct investment abroad to assess its impact on the U.S. and foreign economies. The sample data are used to derive universe estimates in nonbenchmark years from similar data reported in the BE-10, Benchmark Survey of U.S. Direct Investment Abroad, which is conducted every five years. The data collected include balance sheets; income statements; property, plant, and equipment; employment and employee compensation; merchandise trade; sales of goods and services; taxes; and research and development activity.

The survey, as proposed, incorporates two changes that were made to the 2014 BE-10, Benchmark Survey of U.S. Direct Investment Abroad, and five new proposed changes. The following two questions that were added to the 2014 benchmark survey will be added to the BE-11 survey: (1) A question to collect the city in which each foreign affiliate is located; and (2) for majority-owned foreign affiliates with assets, sales, or net income greater than $300 million, a question to collect data on cash and cash equivalents on the balance sheet. Other proposed changes are: (1) Two items will be added to the balance sheet section for the U.S. reporter: (i) Equity investments in foreign affiliates, and (ii) all other assets; (2) a question will be added to collect the form of organization of the U.S. reporter; (3) a question will be added to collect expenditures for research and development performed by new foreign affiliates with assets, sales, or net income between $25 million and $60 million; (4) a question will be added to the Claim for Not Filing form to collect the names and BEA ID numbers of any foreign affiliates for which BEA requested a filing but which did not meet the filing criteria; and (5) the BE-11E (abbreviated) sample form for foreign affiliates will be eliminated. The exemption level for reporting on the proposed survey is unchanged from the 2013 BE-11 survey.

II. Method of Collection

BEA contacts potential respondents by mail in March of each year; responses covering a reporting company's fiscal year ending during the previous calendar year are due by May 31. Reports are required from each U.S. person that has a direct and/or indirect ownership interest of at least 10 percent of the voting stock in an incorporated foreign business enterprise, or an equivalent interest in an unincorporated foreign business enterprise, and that meets the additional conditions detailed in the BE-11 forms and instructions. Entities required to report will be contacted individually by BEA. Entities not contacted by BEA have no reporting responsibilities.

BEA offers electronic filing through its eFile system for use in reporting on the BE-11 annual survey forms. In addition, BEA posts all its survey forms and reporting instructions on its Web site (www.bea.gov/dia). These may be downloaded, completed, printed, and submitted via fax or mail.

Potential respondents of the BE-11 are selected from those U.S. parents that reported owning foreign business enterprises in the 2014 BE-10, Benchmark Survey of U.S. Direct Investment Abroad, along with entities that subsequently entered the direct investment universe. The BE-11 is a sample survey, as described; universe estimates are developed from the reported sample data.

III. Data

OMB Control Number: 0608-0053.

Form Number: BE-11.

Type of Review: Regular submission.

Affected Public: Businesses or other for-profit organizations.

Estimated Number of Respondents: 1,900 U.S. parents filing for their U.S. operations on the A form, for 21,800 foreign affiliates, which include 20,500 B forms, 1,150 C forms, 150 D forms, and 500 Claim for Exemption forms for U.S. operations or foreign affiliates.

Estimated Total Annual Burden Hours: 262,250 hours. Total annual burden is calculated by multiplying the estimated number of submissions of each form by the average hourly burden per form, which is 7 hours for the A form, 12 hours for the B form, 2 hours for the C form, 1 hour for the D form, and 1 hour for the Claim for Exemption forms.

Estimated Time per Respondent: 138.0 hours per respondent (262,250 hours/1,900 U.S. parents) is the average, but may vary considerably among respondents because of differences in company structure, size, and complexity.

Estimated Total Annual Cost to Public: $0.

Respondent's Obligation: Mandatory.

Legal Authority: International Investment and Trade in Services Survey Act (Pub. L. 94-472, 22 U.S.C. 3101-3108, as amended).

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and included in the request for OMB approval of this information collection; they also will become a matter of public record.

Dated: June 5, 2015.
Glenna Mickelson,
Management Analyst, Office of Chief Information Officer.

[FR Doc. 2015-14148 Filed 6-9-15; 8:45 am]

BILLING CODE 3510-06-P